DEPARTMENT OF THE TREASURY

Alcohol and Tobacco Tax and Trade Bureau

Proposed Information Collections; Comment Request

AGENCY: Alcohol and Tobacco Tax and Trade Bureau (TTB), Treasury.

ACTION: Notice and request for comments.

SUMMARY: As part of our continuing effort to reduce paperwork and respondent burden, and as required by the Paperwork Reduction Act of 1995, we invite comments on the proposed or continuing information collections listed below in this notice.

DATES: We must receive your written comments on or before January 22, 2008.

ADDRESSES: You may send comments to Mary A. Wood, Alcohol and Tobacco Tax and Trade Bureau, at any of these addresses:

• P.O. Box 14412, Washington, DC 20044-4412;

• 202-927-8525 (facsimile); or

• formcomments@ttb.gov (e-mail).

Please send separate comments for each specific information collection listed below. You must reference the information collection's title, form or recordkeeping requirement number, and OMB number (if any) in your comment. If you submit your comment via facsimile, send no more than five 8.5 × 11 inch pages in order to ensure electronic access to our equipment.

FOR FURTHER INFORMATION CONTACT: To obtain additional information, copies of the information collection and its instructions, or copies of any comments received, contact Mary A. Wood, Alcohol and Tobacco Tax and Trade Bureau, P.O. Box 14412, Washington, DC 20044-4412; or telephone 202-927-8210.

SUPPLEMENTARY INFORMATION:

Request for Comments

The Department of the Treasury and its Alcohol and Tobacco Tax and Trade Bureau, as part of their continuing effort to reduce paperwork and respondent burden, invite the general public and other Federal agencies to comment on the proposed or continuing information collections listed below in this notice, as required by the Paperwork Reduction Act of 1995 (44 U.S.C. 3501 et seq.).

Comments submitted in response to this notice will be included or summarized in our request for Office of Management and Budget (OMB) approval of the relevant information collection. All comments are part of the public record and subject to disclosure. Please do not include any confidential or inappropriate material in your comments.

We invite comments on: (a) Whether this information collection is necessary for the proper performance of the agency's functions, including whether the information has practical utility; (b) the accuracy of the agency's estimate of the information collection's burden; (c) ways to enhance the quality, utility, and clarity of the information collected; (d) ways to minimize the information collection's burden on respondents, including through the use of automated collection techniques or other forms of information technology; and (e) estimates of capital or start-up costs and costs of operation, maintenance, and purchase of services to provide the requested information.

Information Collections Open for Comment

Currently, we are seeking comments on the following records and forms:

Title: Drawback of Beer Exported.

OMB Number: 1513-0017.

TTB Form Number: 5130.6.

Abstract: When taxpaid beer is removed from a brewery and ultimately exported, the brewer exporting the beer is eligible for a drawback (refund) of Federal taxes paid. By completing this form and submitting documentation of exportation, the brewer may receive a refund of Federal taxes paid.

Current Actions: There are minor grammatical corrections to this information collection, and it is being submitted as a revision.

Type of Review: Revision of a currently approved collection.

Affected Public: Business or other for-profit.

Estimated Number of Respondents: 100.

Estimated Total Annual Burden Hours: 5,000.

Title: Schedule of Tobacco Products, Cigarette Papers or Tubes Withdrawn from the Market.

OMB Number: 1513-0034.

TTB Form Number: 5200.7.

Abstract: TTB F 5200.7 is used by persons who intend to withdraw tobacco products and cigarette papers and tubes from the market for which the taxes have already been paid or determined. The form describes the products that are to be withdrawn to determine the amount of tax to be claimed later as a tax credit or refund. The form notifies TTB when withdrawal or destruction is to take place, and TTB may elect to supervise it.

Current Actions: The number of respondents has increased therefore the burden hours have increased. Also, we have made minor grammatical corrections to this information collection, and we are submitting it as a revision.

Type of Review: Revision of a currently approved collection.

Affected Public: Business or other for-profit.

Estimated Number of Respondents: 171.

Estimated Total Annual Burden Hours: 1,539.

Title: Usual and Customary Business Records Relating to Denatured Spirits.

OMB Number: 1513-0062.

TTB Recordkeeping Requirement Number: 5150/1.

Abstract: Denatured spirits are used for nonbeverage industrial purposes in the manufacture of personal household products. The records are maintained at the premises of the regulated individual and are routinely inspected by TTB personnel during field tax compliance examinations. These examinations are necessary to verify that all specially denatured spirits can be accounted for and are being used only for purposes authorized by laws and regulations. By ensuring that spirits have not been diverted to beverage use, tax revenue and public safety are protected. There is no additional recordkeeping imposed on the respondent as these requirements are usual and customary business records.

Current Actions: The number of respondents has increased; however, the burden remains at 1 hour because these are records that the respondent would keep in the normal course of doing business. Also, we made minor grammatical corrections to this information collection, and we are submitting it as a revision.

Type of Review: Revision of a currently approved collection.

Affected Public: Business or other for-profit; and State, Local, or Tribal Government.

Estimated Number of Respondents: 3,430.

Estimated Total Annual Burden Hours: One (1).

Title: Tobacco Products Manufacturers—Supporting Records for Removal for the Use of the United States.

OMB Number: 1513-0069.

TTB Recordkeeping Requirement Number: 5210/6.

Abstract: Tobacco products have historically been a major source of excise tax revenues for the Federal Government. In order to safeguard these taxes, tobacco products manufacturers are required to maintain a system of records designed to establish accountability over the tobacco products and cigarette papers and tubes produced. However, these items can be removed without the payment of tax if they are for the use of the United States. Records must be retained by the manufacturer for 3 years following the close of the year covered therein and must be made available for inspection by any TTB officer upon his/her request.

Current Actions: There are no changes to this information collection, and it is being submitted for extension purposes only.

Type of Review: Extension of a currently approved collection.

Affected Public: Business or other for-profit.

Estimated Number of Respondents: 101.

Estimated Total Annual Burden Hours: 505.

Title: Special Tax Renewal Registration and Return/Special Tax Location Registration Listing.

OMB Number: 1513-0113.

TTB Form Number: 5630.5R.

Abstract: 26 U.S.C. Chapters 51, 52, and sections 4181 and 4182 authorize collection of special taxes from persons engaging in certain businesses. TTB F 5630.5R is used to compute tax and as an application for registry.

Current Actions: There are no changes to this information collection, and it is being submitted as an extension.

Type of Review: Extension of a currently approved collection.

Affected Public: Business or other for-profit.

Estimated Number of Respondents: 350,000.

Estimated Total Annual Burden Hours: 100,500.

Title: Collection Information Statement for Individuals; and Collection Information Statement for Businesses.

OMB Number: None.

TTB Form Number: 5600.17 and 5600.18, respectively.

Abstract: TTB F 5600.17 is used to collect financial information from individuals and 5600.18 is used to collect financial information from businesses. When an industry member cannot pay their assessed tax all at one time, they complete the applicable form to identify their income, taxes, and other expenses necessary to run their home or business. TTB uses this information to determine how much the industry member can afford to pay over time until the taxes are paid in full and to set up an installment agreement.

Current Actions: Minor changes are being made to these forms, and they are being submitted as a collection in use without an OMB control number.

Type of Review: Existing collection in use without an OMB control number.

Affected Public: Business or other for-profit, Individuals or households.

Estimated Number of Respondents: 90.

Estimated Total Annual Burden Hours: 90.

Dated: November 14, 2007.
Francis W. Foote,
Director, Regulations and Rulings Division.

[FR Doc. E7-22688 Filed 11-20-07; 8:45 am]

BILLING CODE 4810-31-P